DEPARTMENT OF DEFENSE

Defense Acquisition Regulations System

48 CFR Parts 225 and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to incorporate adjusted thresholds for application of trade agreements.

DATES: Effective Date: March 5, 2012.

FOR FURTHER INFORMATION CONTACT: Ms. Ynette Shelkin, Defense Acquisition Regulations System, OUSD (AT&L) DPAP (DARS), Room 3B855, 3060 Defense Pentagon, Washington, DC 20301-3060. Telephone 703-602-8384; facsimile 703-602-0350.

SUPPLEMENTARY INFORMATION: DFARS Case 2012-D005 was published in the Federal Register as a final rule on January 30, 2012 (77 FR 4630). The final rule incorporated adjusted thresholds for application of the World Trade Organization Government Procurement Agreement and the Free Trade Agreements, as determined by the United States Trade Representative.

This final rule incorporates additional adjustments to trade agreements thresholds and makes conforming changes to clause dates, as applicable.

List of Subjects in 48 CFR Parts 225 and 252

Government procurement.

Ynette R. Shelkin,
Editor, Defense Acquisition Regulations System.

Therefore, 48 CFR parts 225 and 252 are amended as follows:

1. The authority citation for 48 CFR parts 225 and 252 continues to read as follows:

Authority: 41 U.S.C. 1303 and 48 CFR chapter 1.

PART 225—FOREIGN CONTRACTING

225.7017-3 [Amended]

2. Section 225.7017-3 is amended:

a. In paragraph (b) by removing “photovoltaic devices valued at less than $203,000” and adding “photovoltaic devices valued at less than $202,000” in its place; and

b. In paragraph (c)(2), removing “photovoltaic devices that are valued at $203,000 or more” and adding “photovoltaic devices that are valued at $202,000 or more” in its place.

PART 252—SOLICITATION PROVISIONS AND CONTRACT CLAUSES

252.212-7001 [Amended]

3. Section 252.212-7001 is amended:

a. By removing the clause date “(FEB 2012)” and adding “(MAR 2012)” in its place; and

b. In paragraph (b)(12), removing “(DEC 2011)” and adding “(MAR 2012)” in its place.

252.225-7017 [Amended]

4. Section 252.225-7017 is amended:

a. By removing the clause date “(DEC 2011)” and adding “(MAR 2012)” in its place;

b. In paragraph (c)(2), removing “$70,079” and adding “$77,494” in its place;

c. In paragraph (c)(3), removing “$70,079 or more but less than $203,000” and adding “$77,494 or more but less than $202,000” in its place; and

d. In paragraph (c)(4), removing “$203,000” and adding “$202,000” in its place.

252.225-7018 [Amended]

5. Section 252.225-7018 is amended:

a. By removing the clause date “(DEC 2011)” and adding “(MAR 2012)” in its place;

b. In paragraphs (b)(1) and (b)(2), removing “$203,000” and adding “$202,000” in its place;

c. In the introductory text of paragraph (c)(3), removing “$70,079” and adding “$77,494” in its place;

d. In the introductory text of paragraph (c)(4), removing “If $70,079 or more but less than $203,000” and adding “If $77,494 or more but less than $202,000” in its place; and

e. In the introductory text of paragraph (c)(5), removing “$203,000” and adding “$202,000” in its place.

[FR Doc. 2012-5216 Filed 3-2-12; 8:45 am]

BILLING CODE 5001-06-P